INTERNATIONAL TRADE COMMISSION

[Investigation No. 731-TA-1046 (Review)]

Tetrahydrofurfuryl Alcohol From China

Determination

On the basis of the record ¹ developed in the subject five-year review, the United States International Trade Commission (Commission) determines,² pursuant to section 751(c) of the Tariff Act of 1930 (19 U.S.C. 1675(c)), that revocation of the antidumping duty order on tetrahydrofurfuryl alcohol from China would be likely to lead to continuation or recurrence of material injury to an industry in the United States within a reasonably foreseeable time.

¹ The record is defined in sec. 207.2(f) of the Commission's Rules of Practice and Procedure (19 CFR 207.2(f)).

² Vice Chairman Daniel R. Pearson and Commissioners Deanna Tanner Okun and Charlotte R. Lane dissenting.

Background

The Commission instituted this review on July 1, 2009 (74 FR 31752) and determined on October 5, 2009 that it would conduct an expedited review (74 FR 54067, October 21, 2009).

The Commission transmitted its determination in this review to the Secretary of Commerce on November 30, 2009. The views of the Commission are contained in USITC Publication 4118 (November 2009), entitled Tetrahydrofurfuryl Alcohol from China: Investigation No. 731-TA-1046 (Review).

By order of the Commission.
Issued: November 30, 2009.
William R. Bishop,
Acting Secretary to the Commission.

[FR Doc. E9-28906 Filed 12-3-09; 8:45 am]

BILLING CODE P